DEPARTMENT OF HOUSING AND URBAN DEVELOPMENT

24 CFR Part 60

[Docket No FR-5888-P-02]

Federal Policy for the Protection of Human Subjects, Extension of Public Comment Period

AGENCY: Office of the General Counsel, HUD.

ACTION: Extension of public comment period.

SUMMARY: Through this notice, HUD is extending the public comment period on its proposed rule pertaining to Federal Policy for the Protection of Human Subjects, published in the Federal Register on October 1, 2015.

DATES: Comment Due Date: The comment due date of December 7, 2015, for the proposed rule published on October 1, 2015, at 80 FR 59092, is extended to January 6, 2016.

ADDRESSES: You may submit comments, identified by docket ID number HHS-OPHS-2015-0008, by one of the following methods:

• Federal eRulemaking Portal: http://www.regulations.gov. Enter the above docket ID number in the “Enter Keyword or ID” field and click on “Search.” On the next Web page, click on “Submit a Comment” action and follow the instructions.

• Mail/Hand delivery/Courier [For paper, disk, or CD-ROM submissions] to: Jerry Menikoff, M.D., J.D., OHRP, 1101 Wootton Parkway, Suite 200, Rockville, MD 20852.

Comments received, including any personal information, will be posted without change to www.regulations.gov.

FOR FURTHER INFORMATION CONTACT: Barry L. Steffen, Policy Development Division, Office of Policy Development and Research, Department of Housing and Urban Development, 451 7th Street SW., Room 8114, Washington, DC 20410-8000, telephone 202-402-5926. (This is not a toll-free number.) Persons with hearing- or speech-impairments may access this number through TTY number by calling the Federal Relay Service number at 800-877-8339 (this is a toll-free number).

SUPPLEMENTARY INFORMATION:

I. Background

On October 1, 2015, at 80 FR 59092, HUD published a proposed rule in the Federal Register on Federal Policy for the Protection of Human Subjects. HUD's proposed rule adopted the policy on the protection of human subjects set forth in a proposed rule issued by the Department of Health and Human Services and 15 other Federal Departments and Agencies and published on September 8, 2015, at 80 FR 53933. Through the September 8, 2015, and October 1, 2015, rules, the Federal Departments and Agencies proposed revisions to modernize, strengthen, and make more effective the Federal Policy for the Protection of Human Subjects that was promulgated as a Common Rule in 199, and sought comment on the proposed revisions through December 7, 2015.

Since the proposed rules were published in September and October, respectively, requests have been made to extend the public comment period to allow time to more thoroughly review the proposed revisions offered for comment by the Federal Departments and Agencies. The Department of Health and Human Services and the 15 other Federal Department Agencies have extended the time to submit public comments on the September 8, 2015, proposed rule to January 6, 2016, and HUD extends its public comment period for its October 1, 2015, proposed rule to this same date—January 6, 2016.

Dated: November 24, 2015.
Camille E. Acevedo,
Associate General Counsel for Legislation and Regulations.

[FR Doc. 2015-30317 Filed 11-27-15; 8:45 am]

BILLING CODE 4210-67-P